DEPARTMENT OF COMMERCE

International Trade Administration

[A-570-979, C-570-980]

Antidumping and Countervailing Duty Orders on Crystalline Silicon Photovoltaic Cells, Whether or Not Assembled Into Modules, From the People's Republic of China: Notice of Amended Final Affirmative Determination of Circumvention Pursuant to Settlement Agreement

AGENCY: Enforcement and Compliance, International Trade Administration, Department of Commerce.

SUMMARY: Pursuant to a settlement agreement with Red Sun Energy Long An Company Limited (Red Sun), the U.S. Department of Commerce (Commerce) is amending its final affirmative determination that Vietnamese Cells and Modules are circumventing the antidumping duty (AD) and countervailing duty (CVD) orders on crystalline silicon photovoltaic cells, whether or not assembled into modules (solar cells and modules), from the People's Republic of China (China).

DATES: Applicable November 12, 2024.

FOR FURTHER INFORMATION CONTACT: Howard Smith, AD/CVD Operations, Office IV, Enforcement and Compliance, International Trade Administration, U.S. Department of Commerce, 1401 Constitution Avenue NW, Washington, DC 20230; telephone: (202) 482-5193.

SUPPLEMENTARY INFORMATION:

Background

On August 23, 2023, Commerce published its final affirmative determinations of circumvention of the AD and CVD orders on solar cells and modules from China.¹ In the Final Circumvention Determinations, Commerce based its decision regarding Red Sun ² on adverse facts available (AFA) and, with the exception of the “Applicable Entries” certification, precluded importers and exporters from using the certifications that Commerce developed in the circumvention inquiry with respect to Red Sun's solar cells and modules.³

¹ See Antidumping and Countervailing Duty Orders on Crystalline Silicon Photovoltaic Cells, Whether or Not Assembled Into Modules, from the People's Republic of China: Final Scope Determination and Final Affirmative Determinations of Circumvention With Respect to Cambodia, Malaysia, Thailand, and Vietnam, 88 FR 57419 (August 23, 2023) (Final Circumvention Determinations).

² In the circumvention inquiry, Commerce referred to the company as Red Sun Energy Co., Ltd. See Red Sun's Letter “Request for a Public Hearing” dated January 6, 2023, at 1 (“. . . Red Sun Energy Long An Co., Ltd. (also known as, Red Sun Energy Co., Ltd.) . . .”).

³ See Final Circumvention Determinations, 88 FR 57420-21 and Appendix II.

Following publication of the Final Circumvention Determinations, Red Sun filed a lawsuit with the U.S. Court of International Trade (CIT) challenging Commerce's determination to apply AFA to Red Sun and preclude certain certifications from being used with respect to entries of Red Sun's solar cells and modules. On October 29, 2024, the United States and Red Sun entered into an agreement to settle and resolve all claims raised in Red Sun's complaint. Pursuant to the terms of the settlement and the stipulation for entry of judgment, Commerce is removing Red Sun from the list of companies in Appendix II of the Final Circumvention Determinations for which parties may not file the certifications that are in Appendix VI of the Final Circumvention Determinations. The CIT issued its order of judgment by stipulation on November 1, 2024.⁴

⁴ See Order of Judgment by Stipulation, ECF No. 47, CIT No. 23-00229 (November 1, 2024).

Consistent with the settlement agreement and the November 1, 2024, order of judgment by stipulation, Commerce will notify U.S. Customs and Border Protection (CBP) that it has removed Red Sun from the list of companies for which parties may not file the certifications that are in Appendix VI of the Final Circumvention Determinations. Specifically, Commerce will instruct CBP that importers and exporters are permitted to use the certifications that are in Appendix VI of the Final Circumvention Determinations with respect to Red Sun's inquiry merchandise that is entered into the United States, or withdrawn from warehouse, for consumption, on or after April 1, 2022, the date of initiation of the circumvention inquiry.

Specifically, for Red Sun's inquiry merchandise that was entered into the United States, or withdrawn from warehouse, for consumption during the period April 1, 2022, through the date that is two weeks after publication of this notice of amended final determinations in the Federal Register, where the entry has not been liquidated (and entries for which liquidation has not become final), importers should complete, sign, and date the Appendix VI importer certification, if applicable, and exporters should complete, sign, and date the Appendix VI exporter certification, if applicable, and provide a copy of the exporter certification to the importer, no later than 45 days after the date of publication of this notice of amended final determinations in the Federal Register. Importers and exporters each have the option to complete an Appendix VI certification covering multiple entries, individual Appendix VI certifications for each entry, or a combination thereof.

The importer, or the importer's agent, must submit both the importer's certification and the exporter's certification to CBP as part of the entry process by uploading them into the document imaging system (DIS) in ACE. Where the importer uses a broker to facilitate the entry process, it should obtain the entry summary number from the broker. Agents of the importer, such as brokers, however, are not permitted to certify on behalf of the importer.

For Red Sun's inquiry merchandise that was entered into the United States, or withdrawn from warehouse, for consumption, after the date that is two weeks after publication of this notice of amended final determinations in the Federal Register, the importer should complete, sign, and date the Appendix VI importer certification, if applicable, on, or prior to, the date of the entry summary, and the exporter should complete, sign, and date the Appendix VI exporter certification, if applicable, and provide a copy of the exporter certification to the importer, on, or prior to, the date of shipment.

Notification to Interested Parties

We are issuing, and publishing notice of, this amended determination in accordance with section 516a(e) of the Tariff Act of 1930, as amended.

Dated: November 5, 2024.
Abdelali Elouaradia,
Deputy Assistant Secretary for Enforcement and Compliance.

[FR Doc. 2024-26141 Filed 11-8-24; 8:45 am]

BILLING CODE 3510-DS-P